DEPARTMENT OF LABOR

Employment and Training Administration

[TA-W-58,394]

Georgia-Pacific Corporation, Old Town, ME; Notice of Termination of Investigation

Pursuant to section 221 of the Trade Act of 1974, as amended, an investigation was initiated on November 22, 2005 in response to a worker petition filed by a company official on behalf of workers at Georgia-Pacific Corporation, Old Town, Maine.

The petitioner has requested that the petition be withdrawn. Consequently, the investigation has been terminated.

Signed at Washington, DC, this 12th day of December 2005.
Richard Church,
Certifying Officer, Division of Trade Adjustment Assistance.

[FR Doc. E5-7955 Filed 12-27-05; 8:45 am]

BILLING CODE 4510-30-P